DEPARTMENT OF EDUCATION

[CFDA NOS.: 84.038, 84.033, and 84.007]

Federal Perkins Loan, Federal Work-Study, and Federal Supplemental Educational Opportunity Grant Programs

ACTION: Notice of the 2008-2009 award year deadline dates for the campus-based programs.

SUMMARY: The Secretary announces the 2008-2009 award year deadline dates for the submission of requests and documents from postsecondary institutions for the campus-based programs.

SUPPLEMENTARY INFORMATION: The Federal Perkins Loan, Federal Work-Study (FWS), and Federal Supplemental Educational Opportunity Grant (FSEOG) programs are collectively known as the campus-based programs.

The Federal Perkins Loan Program encourages institutions to make low-interest, long-term loans to needy undergraduate and graduate students to help pay for their education.

The FWS Program encourages the part-time employment of needy undergraduate and graduate students to help pay for their education and to involve the students in community service activities.

The FSEOG Program encourages institutions to provide grants to exceptionally needy undergraduate students to help pay for their cost of education.

The Federal Perkins Loan, FWS, and FSEOG programs are authorized by parts E and C, and part A, subpart 3, respectively, of title IV of the Higher Education Act of 1965, as amended.

Throughout the year, in its “Dear Colleague” letters, the Department will continue to provide additional information for the individual deadline dates listed, via the Information for Financial Aid Professionals (IFAP) Web site at http://www.ifap.ed.gov.

Deadline Dates: The following table provides the 2008-2009 award year deadline dates for the submission of applications, reports, and waiver requests for the campus-based programs. Institutions must meet the established deadline dates to ensure consideration for funding or a waiver, as appropriate.

2008-2009 Award Year Deadline Dates
What does an institution submit? | How is it submitted? | What is the deadline for submission?
1. The Campus-Based Reallocation Form designated for the return of 2007-2008 funds and the request of supplemental FWS funds for the 2008-2009 award year | The Reallocation Form must be submitted electronically via the Internet and is located in the “Setup” section of the FISAP on the Web at: (http://www.cbfisap.ed.gov.) | August 22, 2008.
2. The 2007-2008 Fiscal Operations Report and 2009-2010 Application to Participate (FISAP) | The FISAP is located on the Internet at the following Web site: (http://www.cbfisap.ed.gov.) The FISAP must be submitted electronically via the Internet, and the FISAP's signature page must be mailed to: FISAP Administrator, 2020 Company, LLC, 3110 Fairview Park Drive, Suite 950, Falls Church, VA 22042 | October 1, 2008.
3. The Work-Colleges Program Report of 2007-2008 award year expenditures | The Work-Colleges Program Report can be found in the “Setup” section of the FISAP on the Web at: (http://www.cbfisap.ed.gov.) The report must be submitted electronically via the Internet, and a printed copy with an original signature must be submitted by one of the following methods: Hand deliver to: United States Department of Education, Federal Student Aid, Campus-Based Systems and Operations Division, 830 First Street, NE., Room 63B3 ATTN: Work-Colleges Coordinator, Washington, DC 20002, or Mail to: The address listed above for hand delivery. However, please use ZIP Code 20202-5453 | October 1, 2008.
4. The 2007-2008 FISAP Edit Corrections and Perkins Cash on Hand Update | The FISAP is located on the Internet at the following Web site: (http://www.cbfisap.ed.gov.) The FISAP Edit Corrections and Perkins Cash on Hand Update must be submitted electronically via the Internet | December 15, 2008.
5. A request for a waiver of the 2009-2010 award year penalty for the underuse of 2007-2008 award year funds | The request for a waiver can be found in Part II, Section C of the FISAP on the Web at: (http://www.cbfisap.ed.gov.) The request and justification must be submitted electronically via the Internet | February 13, 2009.
6. The Institutional Application and Agreement for Participation in the Work-Colleges Program for the 2009-2010 award year | The Institutional Application and Agreement for Participation in the Work-Colleges Program can be found in the “Setup” section of the FISAP on the Web at: (http://www.cbfisap.ed.gov.) The application and agreement must be submitted electronically via the Internet, and a printed copy with original signature must be submitted by one of the following methods: Hand deliver to: United States Department of Education, Federal Student Aid, Campus-Based Systems and Operations Division, 830 First Street, NE., Room 63B3 ATTN: Work-Colleges Coordinator, Washington, DC 20002, or Mail to: The address listed above for hand delivery. However, please use ZIP Code 20202-5453 | March 13, 2009.
7. A request for a waiver of the FWS Community Service Expenditure Requirement for the 2009-2010 award year | The FWS Community Service waiver request can be found in the “Setup” section of the FISAP on the Web at: (http://www.cbfisap.ed.gov.) The request and justification must be submitted electronically via the Internet. | April 24, 2009.
Note:
• The deadline for electronic submissions is 11:59 p.m. (Washington, DC time) on the applicable deadline date. Transmissions must be completed and accepted by 12 midnight to meet the deadline.
• Paper documents that are sent through the U.S. Postal Service must be postmarked by the applicable deadline date.
• Paper documents that are hand delivered by a commercial courier must be received no later than 4:30 p.m. (Washington, DC time) on the applicable deadline date.

Proof of Mailing or Hand Delivery of Paper Documents

If you submit paper documents when permitted by mail or by hand delivery, we accept as proof one of the following:

(1) A legible mail receipt with the date of mailing stamped by the U.S. Postal Service.

(2) A legibly dated U.S. Postal Service postmark.

(3) A legibly dated shipping label, invoice, or receipt from a commercial courier.

(4) Other proof of mailing or delivery acceptable to the Secretary.

If the paper documents are sent through the U.S. Postal Service, we do not accept either of the following as proof of mailing: (1) A private metered postmark, or (2) a mail receipt that is not dated by the U.S. Postal Service. An institution should note that the U.S. Postal Service does not uniformly provide a dated postmark. Before relying on this method, an institution should check with its local post office. All institutions are encouraged to use certified or at least first-class mail.

The Department accepts hand deliveries between 8 a.m. and 4:30 p.m., Washington, DC time, Monday through Friday except Federal holidays.

Sources for Detailed Information on These Requests

A more detailed discussion of each request for funds or waiver is provided in a specific “Dear Colleague” letter, which is posted on the Department's IFAP Web site (http://www.ifap.ed.gov) at least 30 days before the established deadline date for the specific request. Information on these items is also found in the Federal Student Aid Handbook.

Applicable Regulations: The following regulations apply to these programs:

(1) Student Assistance General Provisions, 34 CFR part 668.

(2) General Provisions for the Federal Perkins Loan Program, Federal Work-Study Program, and Federal Supplemental Educational Opportunity Grant Program, 34 CFR part 673.

(3) Federal Perkins Loan Program, 34 CFR part 674.

(4) Federal Work-Study Programs, 34 CFR part 675.

(5) Federal Supplemental Educational Opportunity Grant Program, 34 CFR part 676.

(6) Institutional Eligibility under the Higher Education Act of 1965, as amended, 34 CFR part 600.

(7) New Restrictions on Lobbying, 34 CFR part 82.

(8) Governmentwide Requirements for Drug-Free Workplace (Financial Assistance), 34 CFR part 84.

(9) Governmentwide Debarment and Suspension (Nonprocurement), 34 CFR part 85.

(10) Drug and Alcohol Abuse Prevention, 34 CFR part 86.

FOR FURTHER INFORMATION CONTACT: Sherlene McIntosh, Director of Campus-Based Systems and Operations Division, U.S. Department of Education, Federal Student Aid, 830 First Street, NE., Union Center Plaza, Room 64A3, Washington, DC 20202-5453. Telephone: (202) 377-3242 or via the Internet: sherlene.mcintosh@ed.gov.

If you use a telecommunications device for the deaf (TDD), you may call the Federal Relay Service (FRS) at 1-800-877-8339.

Individuals with disabilities can obtain this document in an alternative format (e.g., Braille, large print, audiotape, or computer diskette) on request to the program contact person listed under FOR FURTHER INFORMATION CONTACT.

Electronic Access to This Document

You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1087aa et seq.; 42 U.S.C. 2751 et seq.; and 20 U.S.C. 1070b et seq.

Dated: March 5, 2008.
Lawrence A. Warder,
Acting Chief Operating Officer, Federal Student Aid.

[FR Doc. E8-4766 Filed 3-7-08; 8:45 am]

BILLING CODE 4000-01-P